DEPARTMENT OF LABOR

Employment and Training Administration

[TA-W-52,334]

Wellstone Mills, LLC, Formerly TNS Mills, Inc., Gaffney Weaving Division, Gaffney, SC; Notice of Termination of Investigation

Pursuant to section 221 of the Trade Act of 1974, as amended, an investigation was initiated on July 16, 2003, in response to a petition filed on behalf of workers of Wellstone Mills, LLC, formerly TNS Mills, Inc., Gaffney Weaving Division, Gaffney, South Carolina.

The petitioning group of workers is covered by an active certification (TA-W-41,658), which was amended to reflect the new ownership and remains in effect through October 10, 2004. Consequently, further investigation in this case would serve no purpose, and the investigation has been terminated.

Signed at Washington, DC, this 25th day of July, 2003.
Linda G. Poole,
Certifying Officer, Division of Trade Adjustment Assistance.

[FR Doc. 03-19864 Filed 8-4-03; 8:45 am]

BILLING CODE 4510-30-P